DEPARTMENT OF STATE

[Public Notice 4517]

Bureau of Educational and Cultural Affairs Request for Grant Proposals: Eurasia Professional Exchanges and Training Program for Armenia, Azerbaijan, Belarus, Georgia, Kazakhstan, the Kyrgyz Republic, Moldova, Russia, Tajikistan, Ukraine and Uzbekistan

SUMMARY: The Office of Citizen Exchanges of the Bureau of Educational and Cultural Affairs (the Bureau) invites applicants to submit proposals that encourage the growth of democratic institutions in Armenia, Azerbaijan, Belarus, Georgia, Kazakhstan, the Kyrgyz Republic, Moldova, Russia, Tajikistan, Ukraine, and Uzbekistan. For this competition, single country projects only are eligible for support. U.S.-based public and private non-profit organizations meeting the provisions described in Internal Revenue code section 26 U.S.C. 501(c)(3) may submit proposals that support international projects in the United States and overseas involving current or potential leaders.

Important Note: This Request for Grant Proposals contains language in the “Shipment and Deadline for Proposals” section that is significantly different from that used in the past. Please pay special attention to procedural changes as outlined.

Interested applicants should read the complete Federal Register announcement before addressing inquiries to the Office of Citizen Exchanges or submitting proposals. Once the RFGP deadline has passed, Office of Citizen Exchanges staff may not discuss this competition with applicants until after the Bureau program and project review process has been completed.

Announcement Title and Number: All correspondence with the Bureau concerning this RFGP should reference the “Eurasia Professional Exchanges and Training Program” (PET) and number ECA/PE/C/EUR-04-33.

FOR FURTHER INFORMATION CONTACT: Interested organizations/institutions may contact the Office of Citizen Exchanges, Room 220, SA-44, U.S. Department of State, 301 4th Street, SW., Washington, DC 20547, Attention: Eurasia Professional Exchanges and Training Program, telephone number (202) 401-6884, fax number (202) 619-4350 to request a Solicitation Package. The Solicitation Package, which includes the Request for Grant Proposals (RFGP), the Proposal Submission Instructions (PSI) and the diversity statement, contains detailed award criteria, required application forms, specific budget instructions, and standard guidelines for proposal preparation.

For specific inquiries, please contact Bureau program officers by phone or e-mail: Kendra Davis (202) 619-5328 (kldavis@pd.state.gov); Henry Scott (202) 619-5327 (hscott@pd.state.gov); Michael George (202) 619-5330 (mdgeorge@pd.state.gov); Brent Beemer (202) 401-6887 (bbeemer@pd.state.gov). (Note: Please refer to the specific program theme under “Program Information” to identify which program officer you should contact.)

To Download a Solicitation Package Via Internet: The entire Solicitation Package may be downloaded from the Bureau's Web site at http://exchanges.state.gov/education/RFGPs. Please read all information before downloading.

General Program Guidelines: This competition is based on the premise that people-to-people exchanges encourage and strengthen democratic initiatives and nurture the social, political and economic development of societies. Exchanges and training programs supported by institutional grants from the Bureau should operate at two levels: They should enhance institutional partnerships, and they should offer practical information and experience to individuals and groups to assist them with their professional responsibilities. Strong proposals usually have the following characteristics:

• A proven track record of working in the proposed issue area and country;

• Experienced staff with language facility and a commitment by the staff to monitor projects locally to ensure implementation;

• A clear, convincing plan showing how permanent results will be accomplished as a result of the activity funded by the grant; and

• A post-grant plan that includes activities that will take place after the Bureau-funded grant has concluded. (See Review Criterion #5 below for more information on post-grant activities.)

• A detailed assessment of project needs and feasibility. Proposals that include costs or time for a needs assessment may be deemed less competitive.

Applicants should identify the local organizations and individuals in the counterpart country with whom they are proposing to collaborate and describe in detail previous cooperative programming and/or contacts. Specific information about the counterpart organizations' activities and accomplishments should be included in the section under “Institutional Capacity” (See Review Criterion # 2 below). Proposals should contain letters of support tailored to the proposed project from foreign-country partner organizations. Applicants should clearly outline in the narrative the foreign partner's role and responsibilities in project management and implementation.

Proposal narratives must clearly demonstrate an organization's commitment to consult closely with the designated program officer at Bureau of Educational and Cultural Affairs, and with Public Affairs Sections at U.S. Embassies. Proposal narratives must confirm that all materials developed for the project will acknowledge Bureau funding for the program as well as a commitment to invite representatives of the Embassy and/or Consulate to participate in various program sessions/site visits. Please note that this will be a formal requirement in all final grant awards.

Suggested Program Designs

Bureau-supported exchanges may include internships; study tours; short-term, non-technical experiential learning; extended and intensive workshops; and seminars taking place in the United States or overseas. Examples of program activities include:

1. A U.S.-based program that includes: Orientation to program purposes and to U.S. society; study tour/site visits; professional internships/placements; interaction and dialogue; hands-on training; professional development; and action plan development. Proposals that include U.S.-based training will receive the highest priority.

2. Capacity-building/training-of-trainer (TOT) workshops to help participants to identify priorities, create work plans; strengthen professional and volunteer skills; share their experience with committed people within each country; and become active in a practical and valuable way.

3. Site visits by U.S. facilitators/experts to monitor projects in the region and to provide additional training and consultations as needed.

Activities ineligible for support: The Office does not support proposals limited to conferences or seminars (i.e., one to fourteen-day programs with plenary sessions, main speakers, panels, and a passive audience). It will support conferences only when they are a small part of a larger project in duration that is receiving Bureau funding from this competition. No funding is available exclusively to send U.S. citizens to conferences or conference-type seminars overseas; nor is funding available for bringing foreign nationals to conferences or to routine professional association meetings in the United States.

Selection of Participants

All grant proposals should clearly describe the type of persons that will participate in the program as well as the participant selection process. For programs that include U.S. internships, applicants should submit letters of support from host institutions. In the selection of foreign participants, the Bureau and U.S. Embassies retain the right to review all participant nominations and to accept or refuse participants recommended by grantee institutions. When American participants are selected, grantee institutions must provide their names and brief biographical data to the Office of Citizen Exchanges. Priority in two-way exchange proposals will be given to foreign participants who have not previously traveled to the United States.

Programs must comply with J-1 visa regulations. Please refer to “Adherence with J-1 Visa Regulations” below.

Program Data Requirements

Organizations awarded grants will be required to maintain specific data on program participants and activities in an electronically accessible database format that can be shared with the Bureau as required. At a minimum, the data must include the following:

(1) Name, address, contact information and biographic sketch of all persons who travel internationally on funds provided by the grant or who benefit from the grant funding but do not travel.

(2) Itineraries of international and domestic travel, providing dates of travel and cities in which any exchange experiences take place.

Adherence to All Regulations Governing the J Visa

The Office of Citizen Exchanges of the Bureau of Educational and Cultural Affairs is the official program sponsor of the exchange program covered by this RFGP, and an employee of the Bureau will be the “Responsible Officer” for the program under the terms of 22 CFR part 62, which covers the administration of the Exchange Visitor Program (J visa program). Under the terms of 22 CFR part 62, organizations receiving grants under this RFGP will be third parties “cooperating with or assisting the sponsor in the conduct of the sponsor's program.” The actions of grantee program organizations shall be “imputed to the sponsor in evaluating the sponsor's compliance with” 22 CFR part 62. Therefore, the Bureau expects that any organization receiving a grant under this competition will render all assistance necessary to enable the Bureau to fully comply with 22 CFR part 62 et seq.

The Bureau of Educational and Cultural Affairs places great emphasis on the secure and proper administration of Exchange Visitor (J visa) Programs and adherence by grantee program organizations and program participants to all regulations governing the J visa program status. Therefore, proposals should explicitly state in writing that the applicant is prepared to assist the Bureau in meeting all requirements governing the administration of Exchange Visitor Programs as set forth in 22 CFR part 62. If your organization has experience as a designated Exchange Visitor Program Sponsor, the applicant should discuss its record of compliance with 22 CFR part 62 et seq., including the oversight of their Responsible Officers and Alternate Responsible Officers, screening and selection of program participants, provision of pre-arrival information and orientation to participants, monitoring of participants, proper maintenance and security of forms, record-keeping, reporting and other requirements.

The Office of Citizen Exchanges will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 401-9810, FAX: (202) 401-9809.

Evaluation

In general, evaluation should occur throughout the project. The evaluation should incorporate an assessment of the program from a variety of perspectives. Specifically, project assessment efforts will focus on: (a) Determining if objectives are being met or have been met, (b) identifying any other related training needs, and (c) assessing if the project has effectively identified resources, advocates, and financial support for the sustainability of future projects. Informal evaluation through discussions and other sources of feedback will be carried out throughout the duration of the project. Formal evaluation must be conducted at the end of each component, should measure the impact of the activities and should obtain participants' feedback on the program content and administration. A detailed evaluation will be conducted at the conclusion of the project and a report will be submitted to the Department of State Bureau of Educational and Cultural Affairs. When possible, the evaluation should be conducted by an independent evaluator.

Program Information

Overview

The Bureau welcomes proposals that respond directly to the themes and countries listed below. Given budgetary considerations, projects in countries and for themes other than those listed will not be eligible for consideration and will be ruled technically ineligible. The themes listed below are important to the Office of Citizen Exchanges, but no guarantee is made or implied that grants will be awarded in all categories.

For this competition, single country projects only are eligible for support. Multi-country projects are not eligible for this competition. In order to prevent duplication of effort, proposals should reflect an understanding of the work of international and USG agencies so that projects complement other exchange or assistance programs.

Two-way exchanges will be given the highest priority. Applicants should carefully review the following information in formulating proposals in Eurasian countries.

To be eligible for a grant award under this competition, the proposed professional training and exchange projects must address one of the following specific themes for single country projects:

Armenia—Women's Leadership.

Azerbaijan—Women's Leadership.

Belarus—Training and Internships for Media Professionals.

Georgia—Public Health Awareness.

Kazakhstan—Training for Media Professionals in Covering Social Issues.

Kyrgyz Republic—Tolerance.

Moldova—Anti-Corruption.

Russia—Intellectual Property Rights.

Russia—Role of a Free Press in a Modern Market Economy.

Tajikistan—Diplomatic Training.

Ukraine—Partnerships for Internet-based Media Outlets.

Ukraine—Tolerance.

Uzbekistan—Press Spokespersons Training.

Women's Leadership

Single Country Project for Armenia

Over the past decade, women's organizations in Armenia have emerged as a force for social change and democratic development. However, the low number of visible women leaders does not reflect the makeup of Armenian society. The Bureau is interested in proposals that will enhance women's participation in politics and promote their successful engagement in civil society by providing leadership training to aspiring women leaders, particularly those outside of Yerevan. Participants should include women who are politically active or who have leadership potential, including national and municipal officials. Programs would focus on developing management skills for organizational efficiency, building networks and coalitions, increasing visibility and effectiveness in the political sphere, and influencing decisions at all levels of government. Training should combine elements such as leadership fundamentals, the introduction or improvement of skills associated with campaign management, accountability to constituencies, voter outreach, networking, message development, working with the media, and fundraising. Proposals should emphasize government ethics issues and the importance of increasing public confidence in public institutions. Continuous communication, mentoring, and consultation between overseas participants and trainers/mentors should be described in detail and conducted throughout the life of the grant. Proposals must indicate a practical and sophisticated knowledge of the political and legislative environment in Armenia. Preference will be given to projects that do not exceed $150,000.

The contact for this topic is Michael George, (202) 619-5330, mdgeorge@pd.state.gov.

Single Country Project for Azerbaijan

Over the past decade, the number of women in leadership positions has increased in Azerbaijan. However, the low number of visible women leaders does not reflect the makeup of Azeri society. The Bureau is interested in proposals that will enhance women's participation in politics and promote their successful engagement in civil society by providing leadership training to aspiring women leaders, both inside and outside of Baku. Participants should include women who are politically active or who have leadership potential, including national and municipal officials. Programs would focus on developing management skills for organizational efficiency, building networks and coalitions particularly at the local and regional levels, increasing visibility and effectiveness in the political sphere, and influencing decisions at all levels of government. Training should combine elements such as leadership fundamentals, the introduction or improvement of skills associated with campaign management, accountability to constituencies, voter outreach, networking, message development, working with the media, and fundraising. Proposals should emphasize government ethics issues and the importance of increasing public confidence in public institutions. Continuous communication, mentoring, and consultation between overseas participants and trainers/mentors should be described in detail and conducted throughout the life of the grant. Proposals must indicate a practical and sophisticated knowledge of the political and legislative environment in Azerbaijan.

Preference will be given to projects that do not exceed $150,000.

The contact for this topic is Brent Beemer, (202) 401-6887, bbeemer@pd.state.gov.

Training and Internships for Media Professionals From Belarus

Single Country Projects for Belarus Only

ECA seeks proposals for programs that will provide training in Western-style journalism techniques and in effective business management for employees of independent media outlets in Belarus. Proposals must indicate a practical and sophisticated knowledge of the political and media environment in Belarus. Proposed activities should not duplicate the work done under recent or existing media training programs, but should complement those efforts. Proposals should include a U.S.-based training program for up to ten media professionals. (The Public Affairs Section in Minsk will select participants for this program; applicants should not propose participant recruitment or selection.) Participants may be reporters, editors, and/or media managers, and may be from broadcast and/or print media outlets. The U.S.-based component should begin with group orientation activities and meetings, followed by a hands-on internship component at an appropriate host U.S. media outlet. Applicants should identify those outlets willing to host Belarusian participants. Internships should be developed for small groups consisting of not more than three persons. In addition to the U.S.-based component, other training activities may take place in Poland or Ukraine. If proposed, activities in Poland or Ukraine should provide Belarusian participants the opportunity to meet with representatives of independent media outlets in those countries and to learn about their professional experiences and successes. Continuous activities, including mentoring and consultations between the Belarusian participants and their U.S.-based trainers/hosts and new colleagues in Ukraine or Poland, should be conducted throughout the life of the grant and described in detail.

For this program, ECA will assign State Department interpreters for the U.S.-based internship component. Therefore, applicants should budget funds in accordance with the guidelines provided in Point 3, “Interpreters,” under the section of this RFGP that identifies allowable program costs, including those associated with using State Department interpreters.

Preference will be given to funding requests that do not exceed $150,000.

The contact for this theme is Henry Scott, (202) 619-5327, hscott@pd.state.gov.

Public Health Awareness

Single Country Projects for Georgia Only

The Bureau welcomes proposals that will focus on promoting health awareness among Georgian youth. The target audience should be organizations and individuals that work with young people. Proposals should focus on creative initiatives that will promote greater awareness of health problems common to Georgians aged 12-25, specifically, drug and alcohol abuse, HIV/AIDS and venereal disease, and cigarette smoking, and that will promote positive behaviors in a way that resonates with, rather than alienates, Georgian youth. Proposals should provide practical, hands-on training to media, NGO, education, or government professionals on how to promote good health habits, overcome social attitudes that contribute to the prevalence of unhealthy behaviors, and manage grassroots mobilization and advocacy. Formal medical education and the provision of healthcare services or medication are outside the purview of this theme and will not be accepted activities for funding.

Preference will be given to projects that do not exceed $150,000.

The contact for this program is Michael George, (202) 619-5330, mdgeorge@pd.state.gov.

Training for Media Professionals in Covering Social Issues

Single Country Project for Kazakhstan Only

ECA seeks proposals for programs that will provide training to media professionals from Kazakhstan on reporting on sensitive social issues. Proposals should include in-country and U.S.-based training activities for journalists and/or media outlet managers. Training should not duplicate the work done under recent or existing USG-sponsored programs, but should complement those efforts. Applicants should expect to work closely with the Public Affairs Sections of the U.S. Embassy to coordinate all activities, including participant selection. U.S-based activities should include an opening group orientation, lecture-style presentations from American trainers on targeted social issues, and interactive discussions with media professionals and experts on reporting on social issues in a civil society. Applicants should also propose meetings with advocacy groups and assistance organizations that work to address social issues. In-country activities may include workshops and seminars. These may be led by the participants themselves, or by U.S. trainers, or a combination of both. In addition to group training events, activities should take place throughout the grant period. Applicants should describe in detail these activities and how they will create and sustain long-term relationships between Kazakh participants and their U.S. colleagues. Such activities may include virtual mentoring and e-mail consultations between U.S.-based trainers/experts and participants.

Preference will be given to funding requests that do not exceed $150,000.

The contact for this theme is Kendra Davis, (202) 619-5328, kldavis@pd.state.gov.

Tolerance

Single Country Projects for the Kyrgyz Republic Only

ECA welcomes proposals that will focus on promoting constructive dialogue and the prevention or reduction of stereotyping, violence and hatred, particularly among youth, in the Nookat region of Osh Oblast in Kyrgyzstan. Projects may be designed and implemented through educational institutions, NGOs or other partners. Projects should build a valued working relationship between U.S. and overseas professionals and should develop, test and result in training or outreach programs that will continue after grant support concludes. Proposals should focus on after-school programs for youth, community activities and facilitating dialogue—among parents, teachers, Muslim and other religious leaders, professionals, community activists—in order to promote better understanding of the issues that contribute to intolerance as well as strategies to address them. The program should include substantive meetings with NGOs, U.S. experts on religions, clerics, faith-based organizations, representatives of local government, and others. Programming should also introduce the evolution of U.S. laws designed to protect and promote tolerance. Travel in both directions, including a hands-on, U.S.-based program with a train the trainer component, should be proposed. Continuous communication, mentoring, and consultations between overseas participants and trainers/mentors, should be described in detail and conducted throughout the life of the grant.

Preference will be given to projects that do not exceed $150,000.

The contact for this topic is Brent Beemer, (202) 401-6887, bbeemer@pd.state.gov.

Anti-Corruption

Single Country Projects for Moldova Only

In order to address the problem of corruption, the Moldovan government created the Center for Fighting Economic Crime and Corruption in June 2002. High-level government officials, including the President, have made statements against corruption in Moldovan society and have promised action. However, citizens have low expectations for government service and are generally inclined to view embezzlement, conflicts of interest, and bribe-taking at all levels as the norm or as something to be tolerated. ECA is looking for proposals that will build upon the preliminary efforts of the Moldovan government to fight corruption. Proposals should work with the Center for Fighting Economic Crime and Corruption and help it to establish itself as a leader in the anti-corruption efforts in Moldova. In addition, program proposals should take into account the anti-corruption activities of Transparency International in Moldova in order to prevent duplication. Programs should engage the Center's officials in relevant ethics issues, including the role of public ethics in a democratic society and ethics responsibilities for government officials. The proposed programs should include innovative ways the Center could address corruption at various levels through oversight, laws, policies, procedures and programming. Proposals should also include programming that will help the Center to increase public confidence in the government's efforts to begin combating corruption. Travel in both directions, including a hands-on, U.S.-based program with a train-the-trainer component, should be proposed. Continuous communication, mentoring and consultations between the Center and trainers/mentors, should be described in detail and conducted throughout the life of the grant. Close coordination with the U.S. Embassy in Chisinau will be essential to this project.

Preference will be given to projects that do not exceed $150,000.

The contact for this topic is Brent Beemer, (202) 401-6887, bbeemer@pd.state.gov.

Intellectual Property Rights

Single Country Projects for Russia Only

Proposals for this project should focus on intellectual property rights (IPR) in Russia, with a special concentration on copyright protection for films/videos, music recordings, and other artistic works subject to piracy. The sale of illegal copies of CDs, videos, and movies is common practice in Russia and is widely accepted by the public as routine. Government action has been insufficient and the Russian legal system has so far been unable to address the problem effectively. Applicants should propose a two-pronged approach that targets both the cultural community (artists, performers, producers and directors, among others) as well as judicial officials. Proposals should include programming that will encourage the participants to understand the nature of intellectual property rights and work collectively in fighting the piracy of their work in Russia. Trade associations, effective lobbying techniques, and legal approaches should be among topics that are covered. Programs should emphasize hands-on, practical activities, such as case studies and examples of court proceedings or litigation regarding copyright protection. Competitive proposals will also introduce participants to some new business models for artistic work that will help create a more legitimate market in Russia. Continuous communication, mentoring, and consultations between overseas participants and trainers/mentors, should be described in detail and conducted throughout the life of the grant. Proposals dealing with law enforcement or travel for law enforcement officials are outside the purview of this topic and will not be considered. Proposals must indicate a practical and sophisticated knowledge of the political and legislative environment in Russia.

Preference will be given to projects that do not exceed $150,000.

The contact for this topic is Henry Scott, (202) 619-5327, hscott@pd.state.gov.

Role of Free Press in a Modern Market Economy

Single Country Projects for Russia Only

In modern market economies, consumers and investors rely on a free press to alert them to opportunities, warn them of potential fraud, and inform them of the consequences of their purchases. In Russia, official pressure and sponsorship of news reports diminishes the media's value as a source of objective information. As a result, consumers and investors have difficulty making informed choices about contracts or other transactions, particularly in the absence of effective regulation. The Bureau is interested in proposals that would increase appreciation of a free, objective press among regional government officials in Russia. Proposals should target regional government leaders, either elected officials or civil servants or a combination of both, for participation in the program. Proposals should demonstrate the applicant's understanding of the importance that Russian regional governments place on economic development, and recruitment and training components should appeal to this priority.

Activities must include both a U.S.-based training program(s) and in-country activities. U.S.-based programs should include sessions to introduce participants to the role of the independent media in the U.S. and its relationship with the government. The U.S. program should include a combination of meetings, lectures, interactive sessions, visits to relevant institutions and organizations, and individual meetings. The Bureau encourages applicants to enlist experienced U.S. politicians in the stateside program who can emphasize the benefits of a free press to Russian officials in a credible manner. In-country activities may include workshops and seminars that complement the information and training presented to participants in the United States. Applicants must work closely with the Public Affairs Section in Moscow to coordinate all activities, including participant selection.

Preference will be given to projects that do not exceed $150,000.

The contact for this theme is Michael George, (202) 619-5330, mdgeorge@pd.state.gov.

Diplomatic Training

Single Country Projects for Tajikistan Only

The Bureau is seeking proposals that will offer training to representatives of Tajikistan's Ministry of Foreign Affairs (MFA). Programs will offer training and assistance to the Tajik MFA to help create a professional Tajik foreign service that can effectively represent the country abroad.

Tajik diplomats, including deputy chiefs of mission and other senior, mid-level and junior officials, should be trained in the essentials of foreign policy formulation and the functions of an embassy. Training will be based on courses offered to U.S. diplomats and will incorporate such practical and substantive themes as: International politics (including international organizations and lending institutions); the structure and operation of an embassy; professional ethics; management skills; analytical reporting; negotiation skills; media relations and public diplomacy; trade promotion; communication with the host government (including need for local language training); management of VIP visits; and other relevant topics.

The program should include in-country training as well as training in the United States. Program activity may incorporate training-of-trainers, workshops, internships and site visits and should reflect a practical understanding of the current political, economic and social climate in Tajikistan. Training should balance formal presentations, discussions and group exercises and should be targeted at diplomats with a wide range of experience, including some who are new to the profession. The Tajik MFA will nominate participants. The U.S. Embassy in Dushanbe will make final participant selection. Applicants are required to work closely with the Public Affairs Section in Dushanbe during all program planning and implementation. Language issues must also be addressed throughout the proposal.

The total funding available for Diplomatic Training in Tajikistan is $250,000.

The contact for this theme is Kendra Davis, (202) 619-5328, kldavis@pd.state.gov.

Partnerships for Internet-Based Media Outlets

Single Country Projects for Ukraine Only

While the importance of the Internet in Ukraine as a source of news and information is growing, Internet-based media outlets there still face significant challenges in terms of their legal status as “legitimate” media outlets and their level of journalistic and management expertise. In order for Internet-based outlets in Ukraine to survive, they need to become viable businesses, as well as credible sources of news and information. The Bureau is seeking proposals for programs that would foster long-term relationships between U.S. Internet-based media outlets and independent, Internet-based media outlets in Ukraine. Within the framework of these partnerships, Ukrainian media professionals would learn how their U.S. partners deal with issues such as management of operations, ethical concerns, and how to operate under existing U.S. legislation governing Internet activities.

Applicants should propose a minimum of two partnerships to be developed. Each Ukrainian media outlet should be matched with an appropriate U.S. media outlet for partnership activities. The names of potential outlets, both in the U.S. and Ukraine, should be provided. Applicants should explain how partnerships will be structured and what activities they will include. Applicants should propose a combination of trips to the U.S. for Ukrainian participants, trips to Ukraine for U.S. participants, and on-going activities and virtual interaction throughout the grant period. While U.S. visits for Ukrainian participants should include consultations, workshops, and interactive meetings, they may also include hands-on internships and/or job shadowing experiences that will build professional expertise and strengthen links between the two partners. Under program activities, applicants should address the following topics: Use of the Internet as a news tool; Web design for Internet-based news services; business and management practices for Internet-based management; journalistic ethics; and licensing and legal issues for Internet-based news outlets. The proposal should identify the individuals who will be responsible for the partnership at each U.S. media outlet, and should, wherever possible, identify personnel that will participate from both the U.S. and Ukrainian sides. For the visits to Ukraine, activities should focus on complementing those activities conducted in the U.S. and increasing the professional capacity of the Ukrainian participants and their colleagues who may not travel to the U.S. This aspect of the program should also strengthen the sustainable relationship between the two outlets.

Preference will be given to projects that do not exceed $150,000.

The contact for this theme is Kendra Davis, (202) 619-5328, kldavis@pd.state.gov.

Tolerance

Single Country Projects for Ukraine Only

Proposals should focus on promoting constructive dialogue and reduction of stereotyping, violence and hatred among diverse groups. Projects should focus on minority communities such as the Tatars in Crimea or the Roma in other parts of Ukraine. Projects may be designed and implemented through media outlets, educational institutions, NGOs or other partners. Projects should build a valued working relationship between U.S. and overseas professionals and should develop, test, and result in a training program that can continue after grant support concludes. Proposals should address specific inter-communal conflicts and facilitate dialogue among teachers, professionals, journalists, community activists and local government officials in order to promote better understanding among parties in conflict. Programming should also introduce the evolution of U.S. laws designed to protect minority rights and promote tolerance. Projects should design and conduct a public awareness campaign to help dispel stereotypes and foster acceptance of cultural differences. Travel in both directions, including a hands-on, U.S.-based program with a train the trainer component, should be proposed. Continuous communication, mentoring, and consultations between overseas participants and trainers/mentors should be described in detail and conducted throughout the life of the grant.

Preference will be given to projects that do not exceed $150,000.

The contact for this theme is Kendra Davis, (202) 619-5328, kldavis@pd.state.gov.

Press Spokespersons Training

Single Country Projects for Uzbekistan Only

ECA is interested in proposals that provide intensive, hands-on training to Uzbek national and government spokespersons as well as spokespersons from non-governmental entities. Proposals should focus on public affairs and public information as they are handled by government and non-governmental institutions. Program activities should cover such topics as how public affairs offices function in government; the importance of transparency in government; communicating openly with citizens and journalists; crisis communication; strategic planning; press office management; and the provision of accurate, timely information to the public.

Programs should consist of a Washington, DC, component, including meetings with the public affairs offices and spokespersons of federal agencies and departments, as well as shadowing experiences with state or local governments and non-governmental organizations. A train-the-trainers component should be included. In-country workshops should also be implemented, during which participants from the U.S. program will work as co-trainers and will reach out to a larger audience of governmental and non-governmental spokespersons from Uzbekistan. Media representatives may also participate in the in-country training program.

The Public Affairs Section (PAS) in Tashkent will be responsible for selecting participants through an open, merit-based process designed jointly by the grantee and PAS.

Preference will be given to projects that do not exceed $150,000.

The contact for this theme is Michael George, (202) 619-5330, mdgeorge@pd.state.gov.

Central and Eastern Europe

Requests for grant proposals for the following countries will be announced in separate competitions: Albania, Bosnia-Herzegovina, Bulgaria, Croatia, Czech Republic, Estonia, Hungary, Latvia, Lithuania, Macedonia, Poland, Romania, Serbia-Montenegro/Kosovo, Slovak Republic and Slovenia. Proposals involving Central and Eastern Europe WILL NOT be accepted under this competition, and if received, will be technically ineligible.

Western Europe

Proposals involving Western Europe will not be accepted under this competition, and if received, will be technically ineligible.

Budget Guidelines and Cost Sharing Requirements

Grants awarded to eligible organizations with less than four years of experience in conducting international exchange programs will be limited to $60,000. Applicants must submit a comprehensive budget for the entire program and must provide a summary budget as well as breakdowns reflecting both administrative and program budgets in the proposal. Applicants may provide separate sub-budgets for each program component, phase, location, or activity to provide clarification. Please refer to the Proposal Submission Instructions (PSI) for complete budget guidelines and formatting instructions.

Since Bureau grant assistance constitutes only a portion of total project funding, proposals should list and provide evidence of other anticipated sources of financial and in-kind support. Applicants are strongly encouraged to provide cost sharing to the fullest extent possible. State Department Review Panels will consider cost sharing seriously when valuating all proposals.

The following are deemed allowable program costs:

1. Travel. International and domestic airfare (per the “Fly America Act”), ground transportation, and visas for U.S. participants. (J-1 visas for Bureau-supported participants from Eurasia to travel to the U.S. are issued at no charge.)

2. Per Diem. For U.S.-based programming, organizations should use the published Federal per diem rates for individual U.S. cities. For activities in Eurasia, the Bureau strongly encourages applicants to budget realistic costs that reflect the local economy. Domestic per diem rates may be accessed at: http://policyworks.gov/org/main/mt/homepage/mtt/perdiem/perd03d.html. Foreign per diem rates can be accessed at: http://www.state.gov/m/a/als/prdm/.

3. Interpreters. For U.S.-based activities, applicants may hire their own locally-based interpreters or may ask the Bureau to assign U.S. Department of State interpreters. The Office of Citizen Exchanges strongly encourages applicants to use locally-hired interpreters. Typically, one interpreter is provided for every four visitors that require interpreting. When an applicant proposes to use State Department interpreters, the following expenses should be included in the budget: Published Federal per diem rates (both “lodging” and “M&IE”); “home-program-home” transportation in the amount of $400 per interpreter; reimbursement for taxi fares; and cell phone usage at $10 per week. If the applicant uses State Department interpreters, salary expenses will be covered by the Bureau and should not be part of an applicant's proposed budget. Bureau funds can not support interpreters who accompany delegations from their home country or travel internationally.

4. Book and cultural allowance. Foreign participants are entitled to a one-time cultural allowance of $150 per person, plus a book allowance of $50. Interpreters should be reimbursed up to $150 for expenses when they escort participants to cultural events. U.S. program staff, trainers or participants are not eligible to receive these benefits.

5. Consultants. Consultants may be used to provide specialized expertise or to make presentations. Daily honoraria cannot exceed $250 per day. Subcontracting organizations may also be used, in which case the written agreement between the prospective grantee and subcontractor should be included in the proposal. Such subcontracts should detail the division of responsibilities and proposed costs. Subcontracts should be itemized in the budget.

6. Room rental. Room rental may not exceed $250 per day.

7. Materials development. Proposals may contain costs to purchase, develop and translate materials for participants. The Bureau strongly discourages the use of automatic translation software for the preparation of training materials or any information distributed to the group of participants or network of organizations. Costs for high-quality translation of materials should be anticipated and included in the budget. Grantee organizations should expect to submit a copy of all program materials to the Bureau.

8. Equipment. Proposals may include limited costs to purchase equipment for Eurasia-based programming such as computers, fax machines and copy machines. Costs for furniture are not allowed. Equipment costs must be kept to a minimum.

9. Working meal. Only one working meal may be provided during the program. Per capita costs may not exceed $5-8 for a lunch and $14-20 for a dinner, excluding room rental. The number of invited guests may not exceed participants by more than a factor of two-to-one. Interpreters must be included as participants.

10. Return travel allowance. A return travel allowance of $70 for each foreign participant may be included in the budget. The allowance may be used for incidental expenses incurred during international travel.

11. Health Insurance. Foreign participants will be covered under the terms of a Bureau-sponsored health insurance policy. The premium is paid by the Bureau directly to the insurance company. Applicants are permitted to include costs for travel insurance for U.S. participants in the budget.

12. Wire transfer fees. When necessary, applicants may include costs to transfer funds to partner organizations overseas.

Grantees are urged to research applicable taxes that may be imposed by host governments on these transfers.

13. In-country travel costs for visa processing purposes. Given the new requirements associated with obtaining J-1 visas for Bureau-supported participants, applicants should include costs for participant and/or in-country partner travel and shipping to U.S. embassies or consulates for visa processing purposes, such as interviews and delivery/pick up of DS-2019 forms.

14. Administrative Costs. Costs necessary for the effective administration of the program may include salaries for grantee organization employees, benefits, and other direct and indirect costs per detailed instructions in the Application Package. While there is no rigid ratio of administrative to program costs, priority will be given to proposals whose administrative costs are less than twenty-five (25) per cent of the total requested from the Bureau. Proposals should show strong administrative cost-sharing contributions from the applicant, the in-country partner and other sources.

New OMB Requirement

An OMB policy directive published in the Federal Register on Friday, June 27, 2003, requires that all organizations applying for Federal grants or cooperative agreements must provide a Dun and Bradstreet (D&B) Data Universal Numbering System (DUNS) number when applying for all Federal grants or cooperative agreements on or after October 1, 2003. The complete OMB policy directive can be referenced at http://www.whitehouse.gov/omb/fedreg/062703_grant_identifier.pdf. Please also visit the ECA Web site at http://exchanges.state.gov/education/rfgps/menu.htm for additional information on how to comply with this new directive.

Shipment and Deadline for Proposals

Important Note: The deadline for this competition is Friday, January 9, 2004. In light of recent events and heightened security measures, proposal submissions must be sent via a nationally recognized overnight delivery service (i.e., DHL, Federal Express, UPS, Airborne Express, or U.S. Postal Service Express Overnight Mail, etc.) and be shipped no later than the above deadline. The delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. It is each applicant's responsibility to ensure that each package is marked with a legible tracking number and to monitor/confirm delivery to ECA via the Internet. Delivery of proposal packages may not be made via local courier service or in person for this competition. Faxed documents will not be accepted at any time. Only proposals submitted as stated above will be considered.

Applicants must follow all instructions in the Solicitation Package. The original and ten copies (total of 11 copies, secured with binder clips) of the application should be sent to: U.S. Department of State, SA-44, Bureau of Educational and Cultural Affairs, Ref.: ECA/PE/C/EUR-04-33, Program Management, ECA/EX/PM, Room 534, 301 4th Street, SW., Washington, DC 20547.

Applicants must also submit the “Executive Summary” and “Proposal Narrative” sections of the proposal in text (.txt) format on a PC-formatted disk. The Bureau will provide these files electronically to the Public Affairs Sections at the U.S. embassies for their review.

Diversity, Freedom and Democracy Guidelines

Pursuant to the Bureau's authorizing legislation, programs must maintain a non-political character and should be balanced and representative of the diversity of American political, social, and cultural life. “Diversity” should be interpreted in the broadest sense and encompass differences including, but not limited to, ethnicity, race, gender, religion, geographic location, socio-economic status, and physical challenges. Applicants are strongly encouraged to adhere to the advancement of this principle both in program administration and in program content. Please refer to the review criteria under the ‘Support for Diversity' section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Review Process

Proposals will be deemed ineligible if they do not fully adhere to the guidelines stated herein and in the Solicitation Package. All eligible proposals will be reviewed by the program office, as well as the Public Affairs Sections overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for grants resides with the Bureau's Grants Officer.

Review Criteria

Technically eligible applications will be competitively reviewed according to the criteria stated below. These criteria are not rank ordered and all carry equal weight in the proposal evaluation:

1. Program Planning and Ability to Achieve Program Objectives: Program objectives should be stated clearly and should reflect the applicant's expertise in the subject area and region. Objectives should respond to the priority topics in this announcement and should relate to the current conditions in the target countries. A detailed agenda and relevant work plan should explain how objectives will be achieved and should include a timetable for completion of major tasks. The substance of workshops, internships, seminars and/or consulting should be described in detail. Sample training schedules should be outlined. Responsibilities of in-country partners should be clearly described.

2. Institutional Capacity: The proposal should include (1) the U.S. institution's mission and date of establishment; (2) detailed information about the in-country partner institution's capacity and the history of the U.S. and in-country partnership; (3) an outline of prior awards—U.S. government and private support received for the target theme/region; and (4) descriptions of experienced staff members who will implement the program. Proposed personnel and institutional resources should be adequate and appropriate to achieve the program's goals. The proposal should reflect the institution's expertise in the subject area and knowledge of the conditions in the target country. Proposals should demonstrate an institutional record of successful exchange programs, including responsible fiscal management and full compliance with all reporting requirements for past Bureau grants as determined by Bureau Grant Staff. The Bureau will consider the past performance of prior recipients and the demonstrated potential of new applicants.

3. Cost Effectiveness and Cost Sharing: Overhead and administrative costs in the proposal budget, including salaries, honoraria and subcontracts for services, should be kept to a minimum. Priority will be given to proposals whose administrative costs are less than twenty-five (25) per cent of the total funds requested from the Bureau. Applicants are strongly encouraged to cost share a portion of overhead and administrative expenses. Cost-sharing, including contributions from the applicant, the in-country partner, and other sources should be included in the budget request. Proposal budgets that do not provide cost-sharing will be deemed not competitive in this category.

4. Support of Diversity: Proposals should demonstrate substantive support of the Bureau's policy on diversity. Achievable and relevant features should be cited in both program administration (selection of participants, program venues and program evaluation) and program content (orientation and wrap-up sessions, program meetings, resource materials and follow-up activities). Applicants should refer to the Bureau's Diversity, Freedom and Democracy Guidelines in the Proposal Submission Instructions (PSI).

5. Evaluation: Proposals should include a detailed plan to monitor and evaluate the program. A draft survey questionnaire plus a description of a methodology that will link outcomes to original project objectives should be provided. Successful applicants will be expected to submit intermediate reports after each project component concludes or on a quarterly basis, whichever is less frequent.

6. Post-Grant Activities: Applicants should provide a plan to conduct activities after the Bureau-funded project has concluded in order to ensure that Bureau-supported programs are not isolated events. Funds for all post-grant activities must be in the form of contributions from the applicant or sources outside of the Bureau. Costs for these activities should not appear in the proposal budget, but should be outlined in the narrative.

Authority: Overall grant making authority for this program is contained in the Mutual Educational and Cultural Exchange Act of 1961, Public Law 87-256, as amended, also known as the Fulbright-Hays Act. The purpose of the Act is “to enable the Government of the United States to increase mutual understanding between the people of the United States and the people of other countries * * * ; to strengthen the ties which unite us with other nations by demonstrating the educational and cultural interests, developments, and achievements of the people of the United States and other nations * * * and thus to assist in the development of friendly, sympathetic and peaceful relations between the United States and the other countries of the world.” It is anticipated that funding for this competition will be made available from FY-2003 FREEDOM Support Act resources carried over into FY-2004 for obligation and new FY-2004 resources, pending the availability of funds.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: October 15, 2003.
C. Miller Crouch,
Principal Deputy Assistant Secretary, Bureau of Educational and Cultural Affairs, Department of State.

[FR Doc. 03-26526 Filed 10-20-03; 8:45 am]

BILLING CODE 4710-05-P